DEPARTMENT OF COMMERCE

International Trade Administration

FIDAE International Air Show 2006

AGENCY: International Trade Administration, Department of Commerce.

ACTION: Notice to FIDAE International Air Show 2006 to Santiago, Chile, March 27-April 2, 2006.

SUMMARY: The U.S. Commercial Service (CS) of the U.S. Department of Commerce, International Trade Administration (ITA), will organize an Aerospace Executive Service (AES) matchmaking mission for the FIDAE International Air Show 2006 in Santiago, Chile. Mission organizers will include the Commercial Service office in Santiago, Chile (CS Chile), the ITA Aerospace and Defense Technology Team, and the CS Office of Global Trade Programs.

FOR FURTHER INFORMATION CONTACT: Office of Global Trade Programs; Room 2012; Department of Commerce; Washington, DC 20230; Tel: (202) 482-4457; Fax: (202) 482-0178.

SUPPLEMENTARY INFORMATION:

FIDAE International Air Show 2006

Santiago, Chile.

March 27-April 2, 2006.

Mission Statement

I. Description of the Mission

The U.S. Commercial Service (CS) of the U.S. Department of Commerce, International Trade Administration (ITA), will organize an Aerospace Executive Service (AES) matchmaking mission for the FIDAE International Air Show 2006 in Santiago, Chile. Mission organizers will include the Commercial Service office in Santiago, Chile (CS Chile), the ITA Aerospace and Defense Technology Team, and the CS Office of Global Trade Programs.

The AES matchmaking mission will include representatives from a variety of U.S. aerospace and defense industry manufacturers and service providers. These mission participants will be introduced to international agents, distributors, and end-users whose capabilities and services are targeted to each U.S. participants' needs in their particular market.

II. Commercial Setting for the Mission

The FIDAE Air Show is Latin America's premier aerospace and defense technology event. A biennial air show in Santiago, it is the only event of its kind in the region to showcase aerospace-related products and services. At the FIDEA 2004 Show, 258 companies exhibited from 31 countries with 41,282 visitors attending the event. There were a total of 128 aircraft on display during the six-day air show. In 2006, it is expected that 350 exhibitors from more than 45 countries will participate in the show. Attendees and visitors to the FIDEA Air Show include government officials, senior company managers, and high-level executives involved in the aerospace and defense markets in Latin America and the Caribbean.

While there has been a slight decline in defense spending in Chile and the rest of South America, the commercial aerospace sector is again on the march. CS Chile reports that Chile saw an unprecedented growth in its airline sector in 2004, surpassing the previous record of 6.4 million passengers set in 2000. International flights showed the largest growth, rising 5 percent from 2003 to 2004 reach 3.63 million passengers flying in and out of Chile. This presents enormous trade opportunities for the airport, ground handling, air traffic control, general aviation, aircraft maintenance, and security sub-sectors.

III. Goals for the Mission

The goal of the Aerospace Executive Service at the FIDAE International Air Show is to facilitate an effective presence for small- and medium-sized companies without their incurring the major expenses associated with purchasing and staffing exhibit space.

The AES Program enables U.S. aerospace and defense companies to familiarize themselves with this important trade fair, to conduct market research while attending the show, and to explore export opportunities through pre-arranged meetings with potential partners. The Aerospace Executive Service also allows U.S. companies to have a presence at the show in the form of an AES Information Booth, providing participants with an enhanced image and level of engagement in which to interact with the show's visitors. Participants will also benefit from the support of knowledgeable ITA and Commercial Service staff focused on furthering their company's objectives.

IV. Scenario for the Mission

CS trade specialists will promote the FIDAE AES in collaboration with CS Chile, the Aerospace & Defense Technologies Team, and in cooperation with the Office of Global Trade Programs. This promotion will take place nationwide and will largely be handled by the Aerospace & Defense Technologies Team. Companies interested in the AES will apply to the program, and once accepted (see ‘Criteria for Participant Selection') will work with the AES coordinator to develop their business goals at the FIDAE International Air Show.

U.S. Export Assistance Center trade specialists, the Aerospace & Defense Technologies Team, and Global Trade Programs officers will recruit and counsel prospective participants for the FIDAE International Air Show AES. The companies will forward company information and literature to CS Chile in advance whereupon CS Chile will begin the partner search, management, and logistical coordination of the program.

Company literature and promotional material will either be shipped to CS Chile or brought by the participant for display in the U.S. Pavilion.

Effective communication between the AES coordinator and all U.S. participants will be essential to the success of the AES program. E-mail and periodic conference calls will be used to guarantee that this is accomplished. CS staff will be available for information and assistance throughout the duration of the AES at the 2006 FIDAE Air Show.

Prior to the end of the AES program, CS staff will advise and counsel participants on appropriate follow-up procedures.

In summary, participation in the AES Program includes:

• Pre-show counseling by CS industry and trade experts.

• Pre-show outreach and press release by CS Chile.

• Pre-show briefing by CS Chile staff.

• Two days of pre-scheduled meetings with potential partners, distributors, and/or end-users.

• Individual company promotions (includes space for catalogs and marketing by CS Chile).

• One show entry pass per company representative.

• One invitation to the show organizer's welcome reception per participant.

• Access to Official U.S. Pavilion amenities, including business center, lounge and shared office suite when not in use for one-on-one FIDAE International Air Show appointments.

• Shared 18sqm booth to use for meetings and to display company literature.

• Copy of the official FIDAE International Air Show Exhibitor's Directory.

• On-site AES program coordinator assistance to AES companies.

• Transportation to and from the show each day.

Timetable

The proposed program is below:

• Friday, March 24—AES Participants Arrive.

• Monday, March 27—Pre-show Briefing and Show Organizer's Welcome Reception.

• Tuesday, March 28—Show Opens (AES meetings—p.m. only).

• Wednesday, March 29—Business Day (AES meetings—full day).

• Thursday, March 30—Business Day (AES meetings—a.m. only).

• Friday, March 31—Business Day.

• April 1-2—Public Days.

AES participants are welcome to attend the remainder of the FIDAE Air Show on their own, from March 30 and 31, including the two public days (April 1-2). The show ends on Sunday, April 2.

V. Criteria for Participant Selection

Target recruitment for the AES Program is 12 companies. Each applicant to the program will be screened for the following:

• Relevance of the company's business line to the mission's goals;

• Acceptability of product area/sector for exhibition in the FIDAE International Air Show in the U.S. Pavilion according to the trade fair rules, which can be found at http://www.FIDAE.cl;

• Timeliness of company's signed application and participation agreement including fee of $3,000 for the AES. $750.00 for each additional representative;

• Provision of adequate information on company's products and/or services, and company's primary market objectives, in order to facilitate appropriate matching with potential business partners;

• Certification that the company meets Departmental guidelines for participation:

A company's products or services must be either produced in the United States, or, if not, marketed under the name of a U.S. firm and have at least 51 percent U.S. content of the value of the finished product or service.

Any partisan political activities (including political contributions) of an applicant are entirely irrelevant to the selection process.

Mission recruitment will be conducted in an open and public manner, including posting on the Commerce Department trade missions calendar at http://www.ita.doc.gov/doctm/ tmcal.html—and other Internet Web sites, publication in domestic trade publications and association newsletters, mailings from internal mailing lists, faxes to internal database aerospace clients, email to aerospace distribution lists, posting in the Federal Register, and announcements at industry meetings, symposia, conferences, and trade shows. Aerospace and Defense Technologies Team members, U.S. Export Assistance Centers and the Office of Global Trade Programs will also promote the AES Program.

Recruitment for the mission will begin in January 2006 and conclude in March, 2006.

Contact

ITA Aerospace & Defense Technology Team:

Mark Weaver, Director and Senior International Trade Specialist, Aerospace and Defense Team, U.S. Export Assistance Center—USCS, 808 Throckmorton Street, Fort Worth, TX 76102-6315. Tel: (817) 392-2673. Fax: (817) 392-2668. E-mail: mark.weaver@mail.doc.gov.

Matthew Hilgendorf, International Trade Specialist, Aerospace and Defense Team, U.S. Export Assistance Center—Santa Fe, C/O New Mexico Economic Development Department, 1100 St. Francis Drive, Santa Fe, New Mexico 87505. Tel: (505) 670-7809. Fax: (505) 827-0211. E-mail: matthew.hilgendorf@mail.doc.gov.

Mara Yachnin, Acting Manager, Office of Aerospace, Global Trade Programs, U.S. Commercial Service, Washington, DC 20230. Tel: 202-482-6238. E-mail: mara.yachnin@mail.doc.gov.

U.S. Commercial Service in Santiago: Patricia Jaramillo, American Embassy, U.S. Commercial Service, Av. Andres Bello 2800, Las Condes, Santiago, Chile 755-0006. Tel. 011-(56) 2-330-3402. Fax 011-(56) 2-330-3172. E-mail: Patricia.Jaramillo@mail.doc.gov.

Dated: January 19, 2006.
John Klingelhut,
Senior Advisor, Global Trade Programs.

[FR Doc. E6-899 Filed 1-24-06; 8:45 am]

BILLING CODE 3510-DR-P